DEPARTMENT OF ENERGY

Federal Energy Regulatory Commission

Combined Notice of Filings #1.

August 15, 2007.

Take notice that the Commission received the following electric rate filings:

Docket Numbers: ER01-48-009.

Applicants: Powerex Corp.

Description: Powerex Corp. submits a notice of non-material change status.

Filed Date: August 13, 2007.

Accession Number: 20070814-0120.

Comment Date: 5 p.m. Eastern Time on Tuesday, September 04, 2007.

Docket Numbers: ER02-2330-047.

Applicants: New England Power Pool.

Description: ISO New England, Inc. submits their Nineteenth Standard Market Design Quarterly Status Report.

Filed Date: June 11, 2007.

Accession Number: 20070614-0009.

Comment Date: 5 p.m. Eastern Time on Wednesday, August 29, 2007.

Docket Numbers: ER07-705-002.

Applicants: GSG, LLC.

Description: Notice of Non-Material Change in Status.

Filed Date: July 30, 2007.

Accession Number: 20070730-5052.

Comment Date: 5:00 p.m. Eastern Time on Friday, August 24, 2007.

Docket Numbers: ER07-970-001.

Applicants: Midwest Independent Transmission System Operator, Inc.

Description: Midwest Independent Transmission System Operator, Inc. responds to the July 27, 2007 deficiency letter.

Filed Date: August 13, 2007.

Accession Number: 20070814-0121.

Comment Date: 5 p.m. Eastern Time on Tuesday, September 04, 2007.

Docket Numbers: ER07-1201-000.

Applicants: Southwest Power Pool, Inc.

Description: Southwest Power Pool, Inc. submits its executed Service Agreement for Network Integration Transmission Service with American Electric Power Service Corp.

Filed Date: July 26, 2007.

Accession Number: 20070813-0173.

Comment Date: 5 p.m. Eastern Time on Thursday, August 16, 2007.

Docket Numbers: ER07-1271-000.

Applicants: Nevada Power Company.

Description: Nevada Power Company submits changes to Rate Schedule 92 and Rate Schedule 93, Power Purchase Agreement with Sierra Pacific Power Company.

Filed Date: August 10, 2007.

Accession Number: 20070813-0154.

Comment Date: 5 p.m. Eastern Time on Friday, August 31, 2007.

Docket Numbers: ER07-1272-000.

Applicants: Midwest Independent Transmission System Operator, Inc.

Description: Midwest Independent Transmission System Operator, Inc. submits an executed large generator interconnection agreement with DTE Pontiac North, LLC.

Filed Date: August 10, 2007.

Accession Number: 20070813-0166.

Comment Date: 5 p.m. Eastern Time on Friday, August 31, 2007.

Docket Numbers: ER07-1273-000.

Applicants: Entergy Services, Inc.

Description: Entergy Services, Inc. on behalf of Entergy Mississippi, Inc. submits the First Amendment to the Interconnection Agreement with South Mississippi Electric Power. Association, as First Revised Rate Schedule FERC 251.

Filed Date: August 10, 2007.

Accession Number: 20070813-0167.

Comment Date: 5 p.m. Eastern Time on Friday, August 31, 2007.

Docket Numbers: ER07-1274-000.

Applicants: TransCanada Energy Marketing ULC.

Description: TransCanada Energy Marketing ULC submits a Notice of Succession and Revised Market-Based Rate Tariff.

Filed Date: August 10, 2007.

Accession Number: 20070813-0168.

Comment Date: 5 p.m. Eastern Time on Friday, August 31, 2007.

Docket Numbers: ER07-1275-000.

Applicants: New England Participating Transmission.

Description: Participating Transmission Owners Administrative Committee on behalf of New England's Participating Transmission Owners submit revised tariff sheets to correct immaterial errors in Implementation Rule for Attachment F.

Filed Date: August 10, 2007.

Accession Number: 20070813-0169.

Comment Date: 5 p.m. Eastern Time on Friday, August 31, 2007.

Docket Numbers: ER07-1276-000.

Applicants: Niagara Mohawk Power Corporation.

Description: Niagara Mohawk Power Corp submits Service Agreement 1156 with Western New York Wind Corp.

Filed Date: August 10, 2007.

Accession Number: 20070813-0170.

Comment Date: 5 p.m. Eastern Time on Friday, August 31, 2007.

Docket Numbers: ER07-1277-000.

Applicants: Entergy Services, Inc.

Description: Entergy Services, Inc, acting as agent for Entergy Operating Companies et al., submits a mutually-executed Dynamic Transfer Operating Agreement with City of North Little Rock, AR.

Filed Date: August 10, 2007.

Accession Number: 20070813-0171.

Comment Date: 5 p.m. Eastern Time on Friday, August 31, 2007.

Docket Numbers: ER07-1278-000.

Applicants: Alpha Energy Master, Ltd.

Description: Alpha Energy Master, Ltd submits a Petition for Acceptance of Initial Rate Schedule, Waivers and Blanket Authority.

Filed Date: August 13, 2007.

Accession Number: 20070814-0122.

Comment Date: 5 p.m. Eastern Time on Tuesday, September 04, 2007.

Take notice that the Commission received the following open access transmission tariff filings:

Docket Numbers: OA07-17-001.

Applicants: Entergy Services Inc.

Description: Entergy Services Inc. on behalf of Entergy Operating Companies submits a compliance filing pursuant to FERC's July 13 Order.

Filed Date: August 13, 2007.

Accession Number: 20070814-0168.

Comment Date: 5 p.m. Eastern Time on Tuesday, September 04, 2007.

Docket Numbers: OA07-32-001.

Applicants: Entergy Services Inc.

Description: Entergy Services Inc on behalf of Entergy Operating Companies submits an amendment to its July 13, 2007 compliance filing pursuant to Order 890.

Filed Date: August 13, 2007.

Accession Number: 20070814-0167.

Comment Date: 5 p.m. Eastern Time on Tuesday, September 04, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-16422 Filed 8-20-07; 8:45 am]

BILLING CODE 6717-01-P